DEPARTMENT OF HOMELAND SECURITY

United States Immigration and Customs Enforcement

Agency Information Collection Activities: Extension, Without Change, of an Existing Information Collection; Comment Request

ACTION: 30-Day notice of information collection for review; Form No. I-333; obligor change of address; OMB Control No. 1653-0042.

The Department of Homeland Security, U.S. Immigration and Customs Enforcement (USICE), is submitting the following information collection request for review and clearance in accordance with the Paperwork Reduction Act of 1995. The information collection notice was previously published in the Federal Register on February 11, 2015, Vol. 80 No. 02825 allowing for a 60 day comment period. USICE did not receive a comment in connection with the 60-day notice. The purpose of this notice is to allow an additional 30 days for public comments.

Written comments and/or suggestions regarding the item(s) contained in this notice, especially with regard to the estimated public burden and associated response time, must be directed to the Office of Information and Regulatory Affairs, Office of Management and Budget. Comments should be submitted to the OMB Desk Officer for U.S. Immigration and Customs Enforcement, Department of Homeland Security via email at oira_submission@omb.eop.gov or faxed to (202) 395-5806. All submissions received must include the agency name, OMB Control Number [1653-0042].

Written comments and suggestions from the public and affected agencies should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, without change, of a currently approved information collection.

(2) Title of the Form/Collection: Obligor Change of Address.

(3) Agency form number, if any, and the applicable component of the Department of Homeland Security sponsoring the collection: (No. Form I-333); U.S. Immigration and Customs Enforcement.

(4) Affected public who will be asked or required to respond, as well as a brief abstract: Primary: Individuals or households Business or other non-profit. The data collected on this form is used by ICE to ensure accuracy in correspondence between ICE and the obligor. The form serves the purpose of standardizing obligor notification of any changes in their address, and will facilitate communication with the obligor.

(5) An estimate of the total number of respondents and the amount of time estimated for an average respondent to respond: 12,000 responses at 15 minutes (.25 hours) per response.

(6) An estimate of the total public burden (in hours) associated with the collection: 3,000 annual burden hours.

Dated: April 17, 2015.
Scott Elmore,
Program Manager, Forms Management Office, Office of the Chief Information Officer, U.S. Immigration and Customs Enforcement, Department of Homeland Security.

[FR Doc. 2015-09311 Filed 4-21-15; 8:45 am]

BILLING CODE 9111-28-P